ENVIRONMENTAL PROTECTION AGENCY

[EPA-HQ-OEI-2011-0096; FRL-12645-01-OMS]

Agency Information Collection Activities; Submission to the Office of Management and Budget for Review and Approval; Comment Request; Cross-Media Electronic Reporting Rule (Renewal)

AGENCY: Environmental Protection Agency (EPA).

ACTION: Notice.

SUMMARY: The Environmental Protection Agency (EPA) has submitted an information collection request (ICR), Cross-Media Electronic Reporting Rule (EPA ICR Number 2002.09, OMB Control Number 2005-0003) to the Office of Management and Budget (OMB) for review and approval in accordance with the Paperwork Reduction Act. This is a proposed extension of the ICR, which is currently approved through February 28, 2025. Public comments were previously requested via the Federal Register on September 30, 2024 during a 60-day comment period. This notice allows for an additional 30 days for public comments.

DATES: Comments may be submitted on or before March 31, 2025.

ADDRESSES: Submit your comments, referencing Docket ID Number EPA-HQ-OEI-2011-0096, to EPA online using www.regulations.gov (our preferred method), by email to docket_oms@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Nathan Wilkes, Office of Information Management, Office of Mission Support (2824T), Environmental Protection Agency, 1200 Pennsylvania Ave. NW, Washington, DC 20460; telephone number: 202-566-0335; email address: wilkes.nathan@epa.gov.

SUPPLEMENTARY INFORMATION: This is a proposed extension of the ICR, which is currently approved through February 28, 2025. An agency may not conduct or sponsor and a person is not required to respond to a collection of information unless it displays a currently valid OMB control number.

Public comments were previously requested via the Federal Register on September 30, 2024 during a 60-day comment period 89 FR 79583. This notice allows for an additional 30 days for public comments. Supporting documents, which explain in detail the information that the EPA will be collecting, are available in the public docket for this ICR. The docket can be viewed online at www.regulations.gov or in person at the EPA Docket Center, WJC West, Room 3334, 1301 Constitution Ave., NW, Washington, DC. The telephone number for the Docket Center is 202-566-1744. For additional information about EPA's public docket, visit http://www.epa.gov/dockets.

Abstract: The scope of this ICR is the electronic reporting components of the Cross-Media Electronic Reporting Rule (CROMERR), which is designed to: (i) allow EPA to comply with the Government Paperwork Elimination Act of 1998; (ii) provide a uniform, technology-neutral framework for electronic reporting across all EPA programs; (iii) allow EPA programs to offer electronic reporting as they become ready for CROMERR; and (iv) provide states with a streamlined process—together with a uniform set of standards—for approval of their electronic reporting provisions for all their EPA-authorized programs. Responses to the collection of information are voluntary. In order to accommodate CBI, the information collected must be in accordance with the confidentiality regulations set forth in 40 CFR part 2, subpart B. Additionally, EPA will ensure that the information collection procedures comply with the Privacy Act of 1974 and the OMB Circular 108.

Form Numbers: None.

Respondents/affected entities: Entities that report electronically to EPA and state or local government authorized programs; and state and local government authorized programs implementing electronic reporting.

Respondent's obligation to respond: Required to obtain or retain a benefit (CROMERR was established to ensure compliance with the Government Paperwork Elimination Act (GPEA)).

Estimated number of respondents: 77,716 (total).

Frequency of response: On Occasion.

Total estimated burden: 65,319 hours (per year). Burden is defined at 5 CFR 1320.03(b).

Total estimated cost: $4,614,717 (per year), which includes $1,283,547 annualized capital or operation & maintenance costs.

Changes in the estimates: There is a decrease of 81,985 hours in the total estimated respondent burden compared with the ICR currently approved by OMB. The decrease in respondent burden can be attributed primarily to two reasons. First, a decrease in the number of direct reporters that will register with EPA's electronic document receiving system. Second, a decrease in the number of indirect reporters that will comply with paper subscriber agreement and ESA provisions associated with systems with SCS solutions. Both estimates are based on data from CDX. Thus, the Agency believes that the revised estimates accurately reflect the number of respondents.

The overall change in respondent burden is considered an “adjustment,” because it results from changes in the respondent universe and hourly burden estimates used in the development of the ICR.

Courtney Kerwin,
Director, Information Engagement Division.

[FR Doc. 2025-03337 Filed 2-27-25; 8:45 am]

BILLING CODE 6560-50-P